DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: October 22, 2003, 9 a.m. to 5 p.m.; October 23, 2003, 8 a.m. to 12 noon.

Place: Westchester Marriott Hotel, 670 White Plains Road, Tarrytown, New York 10591, Phone: (914) 631-2200; Fax: (914) 631-7819.

Status: The meeting will be open to the public.

Agenda: The agenda includes an overview of general Council business activities. In addition, the Council will hear presentations from experts on farmworker issues, including an update from the 404 Committee (section 404 of Pub. L. 107-251) regarding the progress on the study of the barriers members of America's migrant and seasonal farmworker community face when accessing Medicaid and State Children's Health Insurance Program (SCHIP) benefits.

Finally, the Council will be holding a public hearing at which migrant farmworkers will have the opportunity to testify before the Council regarding matters that affect their health. The hearing is scheduled for Thursday, October 23, from 9 a.m. to 12 noon, at the Westchester Marriott Hotel.

The Council meeting is being held in conjunction with the Annual East Coast Migrant Stream Forum sponsored by the North Carolina Primary Health Care Association, which is being held in Tarrytown, New York, during the same period of time.

Agenda items are subject to change as priorities indicate.

FOR FURTHER INFORMATION CONTACT: Anyone requiring information regarding the Council should contact Gladys Cate, Office of Minority and Special Populations, staff support to the National Advisory Council on Migrant Health, Bureau of Primary Health Care, Health Resources and Services Administration, 4350 East-West Highway, Bethesda, Maryland 20814, Telephone (301) 594-0367.

Dated: September 2, 2003.
Jane M. Harrison,
Director, Division of Policy Review and Coordination.

[FR Doc. 03-22751 Filed 9-5-03; 8:45 am]

BILLING CODE 4165-15-P